DEPARTMENT OF EDUCATION

Competition Announcement; State Technical Assistance Projects To Improve Services and Results for DeafBlind Children

AGENCY: Office of Special Education and Rehabilitative Services, Department of Education.

ACTION: Notice.

SUMMARY: The Department of Education (ED) announces the opportunity to apply for competitive grants for the Fiscal Year (FY) 2026 for State Technical Assistance Projects to Improve Services and Results for DeafBlind Children (State DeafBlind Projects), Assistance Listing Number (ALN) 84.326T.

DATES: Complete proposals must be submitted electronically through the Grants.gov “APPLY” function by 11:59:59 p.m. Eastern time April 21, 2026.

FOR FURTHER INFORMATION CONTACT: Rebecca Sheffield, U.S. Department of Education, 400 Maryland Avenue SW, Room 4A232, Washington, DC 20202. Telephone: (202) 245-6490. Email: rebecca.sheffield@ed.gov.

SUPPLEMENTARY INFORMATION: The purpose of the State DeafBlind Projects (84.326T) are to offer financial assistance to projects to establish and operate State DeafBlind Projects in the states of Connecticut, Maine, Massachusetts, New Hampshire, Oregon, Vermont, Washington, and Wisconsin. These projects will help education agencies, providers, teachers, and families to address the educational, related services, transitional, and early intervention needs of DeafBlind children. The FY 2026 competition includes an absolute priority, a competitive preference priority, selection criteria, and requirements. The absolute priority is: State Technical Assistance Projects to Improve Services and Results for DeafBlind Children. The competitive preference priority is: Returning Education to the States.

To Apply: The complete funding opportunity announcement and all information needed to apply, including the priority and program requirements, are available on ED's website at https://www.ed.gov/about/ed-offices/osers/osep/new-osep-grant-competitions and on Grants.gov at https://grants.gov/search-results-detail/361336. The application notice and instructions on grants.gov is the official document governing the grant competition.

Program Authority: 20 U.S.C. 1462, 1463 and 1481.

Accessible Format: On request to the person listed under FOR FURTHER INFORMATION CONTACT, individuals with disabilities can obtain this document in an accessible format.

Kimberly Richey,
Acting Assistant Secretary and Deputy Assistant Secretary, Delegated the authority to perform the functions and duties of Assistant Secretary for the Office of Special Education and Rehabilitative Services.

[FR Doc. 2026-03909 Filed 2-26-26; 8:45 am]

BILLING CODE 4000-01-P